DEPARTMENT OF HEALTH AND HUMAN SERVICES

Centers for Disease Control and Prevention

[60Day-19-19BIW; Docket No. CDC-2019-0060]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Evaluation of the DP18-1801 Healthy Schools Program. This evaluation will examine three selected DP18-1801 Healthy Schools Program (DP18-1801) grantees to provide a comprehensive picture of implementation activities, context, successes and challenges, key partnerships, lessons learned, and impact on program outcomes.

DATES: CDC must receive written comments on or before September 23, 2019.

ADDRESSES: You may submit comments, identified by Docket No. CDC-2019-0060 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Evaluation of the DP18-1801 Healthy Schools Program—New—Division of Population Health (DPH) National Center for Chronic Disease Prevention and Health Promotion (NCCDPHP), Centers for Disease Control and Prevention (CDC).

Background and Brief Description

The Centers for Disease Control and Prevention's (CDC) School Health Branch (SHB) requests a three-year OMB approval to conduct a new information collection entitled DP18-1801 Healthy Schools (DP18-1801) Program Evaluation. The DP18-1801 Healthy Schools Program builds upon previous CDC efforts designed to enhance the capacity of state education agencies (SEAs) to adopt and implement evidence-based policies, practices, and programs that support health among the nation's youth. The purpose of the DP18-1801 Healthy Schools Program is to: (1) Increase the number of students who consume nutritious food and beverages (i.e., those aligned with the Dietary Guidelines for Americans); (2) increase the number of students who participate in daily physical education and physical activity; and (3) increase the number of students who can effectively manage their chronic health conditions. The evaluation approach is a multisite, embedded case study design, consisting of both process and outcome components, focusing on three 1801 state grantees and a subset of their targeted LEAs and schools. The process component will assess implementation of strategies and activities at the state, local, and school levels and their integration across levels; fidelity of implementation; implementation facilitators and barriers; and contributions of national and state level TA towards program achievements. Three primary data collection methods will be used: (1) Key informant interviews (KII) conducted during in-person site visits or by phone, (2) Web-based surveys, and (3) review of secondary data sources.

Estimated Annualized Burden Hours
Type of respondents | Form name | Number of respondents | Number of responses per respondent | Average burden per response (in hours) | Total burden (in hours)
SEA staff | Web-Survey | 3 | 1 | 75/60 | 4
| Key-Informant Interview | 9 | 1 | 75/60 | 11
LEA staff | Web-Survey | 30 | 1 | 75/60 | 38
| Key-Informant Interview | 12 | 1 | 75/60 | 15
School staff | Web-Survey | 210 | 1 | 75/60 | 263
| Key-Informant Interview | 54 | 1 | 75/60 | 68
Total |  |  |  |  | 398

Jeffrey M. Zirger,
Lead, Information Collection Review Office, Office of Scientific Integrity, Office of Science, Centers for Disease Control and Prevention.

[FR Doc. 2019-15816 Filed 7-24-19; 8:45 am]

BILLING CODE 4163-18-P